DEPARTMENT OF COMMERCE

International Trade Administration

Notice of Reduction in the Size of Antidumping/Countervailing Duty Federal Register Notices

AGENCY: Import Administration, International Trade Administration, Department of Commerce.

ACTION: Notice of Reduction in the Size of Federal Register Notices.

SUMMARY: On August 21, 1998, the Department of Commerce published a notice of intent to modify the manner in which its final determinations are made available to the public in an effort to reduce publishing costs. See 63 FR 44837. We proposed to publish a notice in the Federal Register (FR) announcing our final determinations in investigations and reviews and to make a decision memorandum available simultaneously on Import Administration's web page in which we would summarize comments and present our position on the issues.

Based on our budget constraints and the widespread access to the Internet, we are proceeding with reducing the size of our FR notices and ensuring access to decision memoranda on our web page. Based on our analysis of the comments received in response to our August 21, 1998, proposal we have alerted traditional services such as Lexis and Westlaw to our plans and they have indicated that they will make the decision memoranda available to their clients in an electronically searchable format.

EFFECTIVE DATE: February 15, 2000.

FOR FURTHER INFORMATION: Please contact Laura Merchant or Laurie Parkhill, Import Administration, International Trade Administration, U.S. Department of Commerce, 14th and Constitution Ave., NW, Washington, D.C. 20230, at (202) 482-0367 and (202) 482-4733, respectively.

The Applicable Statute: Under section 771(i) of the Tariff Act of 1930, as amended, the Department is required to make public the facts and conclusions of its determinations.

Background: On August 21, 1998, the Department of Commerce (the Department) published a notice of intent to modify the manner in which its final determinations are made available to the public in efforts to reduce publishing costs. We invited parties to comment on our proposal. The Department has evaluated the proposed changes and the comments regarding those changes and has decided to implement the proposal.

As described in the August 1998 proposal, final determinations will be divided into two sections: (1) the notice to be published in the FR; and (2) an “Issues and Decision Memorandum” to be posted simultaneously on the Import Administration web page. In addition, traditional services such as Lexis and Westlaw have indicated that they will make the decision memoranda available to their clients in an electronically searchable format. Access to paper copies of these documents will continue to be available through the IA Central Records Unit, room B-099 of the main Department building.

The published notice will contain information relating to the Department's decisions, including margins, Department contacts, deadlines, cash-deposit requirements, and, for administrative reviews, the duty-assessment methodology. The notice will state explicitly that the public can find a paper copy of the discussion of the issues and relevant memoranda on file in the IA Central Records Unit and will also provide the public with an Internet address that will allow public access to the electronic version of these documents.

The “Issues and Decision Memorandum” (Decision Memo) will contain the complete discussion of issues parties raise in case and rebuttal briefs, and it will be adopted and incorporated by reference into the notice we publish in the FR. It will be identical in content to the “Analysis of Comments” section in current final determinations. Specifically, the Decision Memo will be a memorandum from a Deputy Assistant Secretary with a summary of comments received and the Department's position with respect to each of those comments. The Decision Memo will be available on the IA web page simultaneously with the publication of the notice in the FR. We will follow this approach for all FR final notices regardless of the type of proceeding.

Locating Memoranda on the Internet: We will make the Decision Memo, and, as applicable, other memoranda, such as a scope memorandum, available on IA's web page. These memoranda will be located in the electronic library of IA documents. The Internet address for the final notices and Decision Memo will be: “www.ita.doc.gov/import_admin/records/frn”. This address will take the user to a list of countries which contains electronic links to the FR notices and decision memoranda for each case pertaining to each country. Any special instructions parties might need to locate pertinent memoranda will be included in the FR notice. This index with links to relevant documents for each order will appear in the following sample format of the IA home page. The numbered items represent links to the corresponding documents.

[A-XXX-XXX]

Product

1. Final Results of Antidumping Duty Administrative Review (POR)

2. Decision Memorandum

(Published 00/00/200X)

Examples of the FR document, Issues in Decision Memo, and Decision Memo are located in Appendices 1, 2, and 3 at the end of this notice.

Analysis of Comments Received

Comment 1: All commenters urged the Department not to change its present policy of publication. They argue that the proposed change will make it more difficult, time-consuming, and costly to research Departmental precedents and policy because the IA web site does not contain adequate text-searching tools which are available on other services including the Government Printing Office (GPO) web site. They conclude that to “publish” a Decision Memo only on IA's web site would effectively deny meaningful access to the Department's decisions through the GPO site and other commercial research services. This change, they contend, will reduce the Department's current level of transparency to all parties. At a minimum, commenters urge IA to either include a robust text-searching tool on its web site and/or arrange for traditional research services such as Lexis and Westlaw to include the Department's complete decisions in their services.

We have consulted with the traditional commercial services such as Westlaw and Lexis about our proposed changes. They have indicated that they will make IA's decision memoranda available through their services just as they make the FR Notices available to their customers. Access to IA's decision memoranda and related documents through traditional commercial services should mitigate these concerns. With this search capability and the wide availability of internet access, we believe that our decisions and policy will be more publicly available than is presently the case.

Comment 2: We received one comment arguing that we are required by statute to publish the full facts and our conclusions in the FR.

We disagree. The Department is required by section 771(i) of the Tariff Act of 1930, as amended, to make public its decisions and the basis of those decisions. Nowhere does the statute require the Department to publish its decision in a specific publication.

The Department will continue to publish notices of final determinations containing all fundamental information relating to the Department's decisions. In addition, the Department will provide access to the electronic version of these documents through both the IA web site and through traditional commercial services. Paper copies will remain available through the IA Central Records Unit.

Comment 3: Several commenters argued that the proposed change will affect the quality of advocacy and quality of Department decision-making adversely because the Department will no longer be able to research electronically the entire set of its prior decisions.

We disagree. Changing the location of publicly available documents should have little impact on the quality of advocacy or our decision-making abilities. The Department's decision memoranda and related documents will continue to be available and accessible to the public through the IA web site, the Central Records Unit, and the traditional electronic research services.

Comment 4: Several commenters contend that our proposed change could result in increased costs, including the cost of maintaining the new information on the IA web page. One commenter anticipated that the costs of maintaining the information on our web site will rise beyond savings we anticipate. Another argued that, if the Department's proposed changes were to cause a delay in the resolution of any Antidumping or Countervailing proceedings, the additional amount of interest payable for estimated duties incurred during the delay could exceed the savings in publication costs.

We disagree. The information currently available in our FR notices will remain available to the public through other means, as well as continued access through Lexis and Westlaw, thereby providing the ability to research precedents and avoiding delay in access to the information. While the Department acknowledges additional effort may be involved in locating and tracing documents during the initial stages of transition to this new format, the technology and resources available should not increase time spent on researching Department decisions, policies, and precedents substantially. Any increased cost of conducting proceedings would not arise from changing the location of publicly available documents.

We do not anticipate significantly increased maintenance costs. Moreover, we expect significant increased net savings resulting from lower publishing costs. Additional server space on the IA web site as well as time compiling the documents onto the web page and making electronic copies available to the public and any commercial services cost far less than continuing to publish lengthy documents in the Federal Register.

Comment 5: We received several comments expressing a general fear of loss of access to IA decisions due to the unreliability of the Internet. Other commenters suggested that the availability of memoranda through the CRU is not an adequate substitute for access through the Internet. One commenter stressed the importance of continued availability of Department decisions in the CRU. Several comments noted that, unlike the IA web site, the GPO web site maintains searchable back issues of the FR from June 1980, from which the public may access and search Department decisions.

We understand this concern and will strive whenever possible to create alternative access locations for all publicly available documents using the CRU and traditional commercial Internet services. The Department will continue to maintain its files of all publicly available information in the CRU.

Contrary to what commenters contend, we believe that the historical information will be more publicly available than is presently the case. Lexis and Westlaw have indicated that they will include both the Department's FR notice and the accompanying Decision Memo in their databases which include information dating from 1980. Our Decision Memo and FR Notices will also be posted on the IA web site in addition to all of our FR notices published since 1995. In addition, all past and future FR Notices will remain on the GPO site.

Comment 6: Many commenters pointed out that the IA web site does not have a full-text searching capability like the Lexis and Westlaw sites. They contend that, without such a searching tool, the availability of decision memoranda on the IA web site cannot substitute for these current services.

As noted in response to Comment 1, the Department recognizes these concerns and has discussed solutions with Westlaw and Lexis to carry both the FR notice and the decision memoranda. In addition, the Department affirms its commitment to maintain an effective and user-friendly web site available to any party that does not have access to these commercial services. In addition to any searching capabilities that we can incorporate into our web site, we will also post our FR notices and decision memoranda using meaningful indexes and links.

Comment 7: Of great concern to all commenters is the lack of an effective search mechanism on IA's web site. We received comments suggesting that we include a search engine on our web site that is similar to the ones currently available through the leading commercial legal on-line services and the GPO web site. Three commenters suggested that, in addition to decision memoranda being posted on the Internet, prior decisions, disclosed orders, and interpretations of applicability in prior cases also be available through the web site, including all documents relevant to a particular case, a full history of agency analysis and actions, remand results, liquidation instructions, assessment rates in graphical format, and internal memoranda associated with each order.

If possible, we will incorporate a robust search engine on the IA web site as a substitute to what is currently available on the GPO web site. While including all relevant documents in a particular case, such as remand results, liquidation instructions, and assessment rates might be a valuable research tool in some cases, we are not prepared to make such a commitment at this time. The IA web site is an extremely useful and important information dissemination tool and we strive to post as many public documents as feasible in a useful fashion.

Comment 8: Several commenters proposed various indexing schemes to better identify and group documents on the IA web site for easy identification.

We are sympathetic to the need to identify notices and decision memoranda quickly and effectively on the IA web site. We view our web site to be an integral part of our information-dissemination efforts and will arrange the information in a way that is both useful and easy to locate.

Comment 9: We received one comment suggesting that, in lieu of our proposed changes to reduce the size of our final notices in the FR, subscription prices for the FR should be increased instead.

It is not in the Department's power to increase subscription prices to the FR, which is maintained by a separate federal agency, nor does the Department receive proceeds from such subscriptions. Therefore, this point is irrelevant.

Comment 10: We received two comments expressing concern over the simultaneous timing of the release of the Decision Memo on the Internet and publication of the notice in the FR. These commenters feared simultaneous publication would not always run smoothly. One commenter suggested that publication of the notice alone should not be construed as satisfying our statutory obligation and that only when both documents are publicly available should our statutory obligation to publish our decisions be fulfilled. In addition, the commenter stressed the need to assign the exact same validity and importance of the on-line documents as documents which are currently published in the FR.

The Department has established procedures to ensure simultaneous release of documents on the Internet and in the FR. The Department will not consider its obligations fulfilled until both documents are available publicly.

Comment 11: We received one comment expressing concern that interested parties may not continue to receive an advance copy of the notice for publication in the FR and the Decision Memo or that the Department may publish the FR Notice but not release the Decision Memo to the parties on the same day.

The Department will continue to provide paper copies of the final notice and the Decision Memo to interested parties in advance of the date of publication of the FR notice under this new system.

Implementation

The procedures outlined in this notice will be applied to all final determinations which are subject to a publication requirement and issued after February 15, 2000, the effective date of this notice. If necessary, additional information on procedures to follow for locating our decisions on the internet will be posted on the IA web site at www.ita.doc.gov/import_admin/records/. Any questions concerning file formatting, access on the Web, or other electronic filing issues should be addressed to Andrew Lee Beller, IA Webmaster, at (202)482-0866 or via e-mail at andrew_lee_beller@ita.doc.gov.

Dated: January 13, 2000.
Robert S. LaRussa,
Assistant Secretary for Import Administration.

Appendix 1—Sample FR Document

This will be published in the FR. (Please note that this sample reflects final results of an administrative review. All IA final determinations will be subject to this modified format.)

DEPARTMENT OF COMMERCE

International Trade Administration

[Case Number]

(Product) from (Country); Final Results of Antidumping Duty Administrative Review

AGENCY: Import Administration, International Trade Administration, Department of Commerce.

ACTION: Notice of final results of antidumping duty administrative review.

SUMMARY: On (date), the Department of Commerce published the preliminary results of administrative review of the antidumping duty order on (product) from (country). The merchandise covered by this order is (brief description). The review covers (number) manufacturers/exporters. The period of review is (date) through (date).

Based on our analysis of the comments received, we have made changes in the margin calculations. Therefore, the final results differ from the preliminary results. The final weighted-average dumping margins for the reviewed firms are listed below in the section entitled “Final Results of the Review.”

EFFECTIVE DATE: (Insert date of publication in the Federal Register).

FOR FURTHER INFORMATION CONTACT: (Analyst), Import Administration, International Trade Administration, U.S. Department of Commerce, Washington, D.C. 20230; telephone: (202) 482-XXXX.

SUPPLEMENTARY INFORMATION:

The Applicable Statute

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to 19 CFR Part 351 (1998).

Background

On (date), the Department published the preliminary results of administrative review of the antidumping duty order on (product) from (country) (FR citation). The review covers (number) manufacturers/exporters. The period of review (POR) is (date) through (date). We invited parties to comment on our preliminary results of review. At the request of certain interested parties, we held a public hearing on (date). The Department has conducted this administrative review in accordance with section 751 of the Act.

Scope of Review

The product covered by this review is (product) and (description). (Standard scope language will appear here unless, for reasons of length, the complete scope description is in a separate memorandum. Such a memorandum will also be available on the IA web site.)

Analysis of Comments Received

All issues raised in the case and rebuttal briefs by parties to this administrative review are addressed in the “Issues and Decision Memorandum” (Decision Memo) from (name), Deputy Assistant Secretary, Import Administration, to (name), Assistant Secretary for Import Administration, dated (date), which is hereby adopted and incorporated by reference into this notice. A list of the issues which parties have raised and to which we have responded, all of which are in the Decision Memo, is attached to this notice as an Appendix. Parties can find a complete discussion of all issues raised in this review and the corresponding recommendations in this public memorandum, which is on file in the Central Records Unit, room B-099, of the main Department building.

In addition, a complete version of the Decision Memo can be accessed directly on the Web at www.ita.doc.gov/import_admin/records/frn/, under the heading “(Applicable Country).” The paper copy and electronic version of the Decision Memo are identical in content.

Use of Facts Available (if Necessary)

For a discussion of our application of facts available, see the “Facts Available” section of the Decision Memo, which is on file in B-099 and available on the Web at www.ita.doc.gov/ import_admin/records/frn/, under the heading “(Applicable Country).”

Sales Below Cost in the Home Market (Where Applicable)

The Department disregarded home market sales below cost for (names of firms) in these final results of review.

Duty Absorption (Where Applicable)

We have determined that duty absorption has/has not occurred with respect to (name of firm) with respect to (XX) percent of sales which this firm made through its U.S. affiliated party. For a discussion of our determination with respect to this matter, see the “Duty Absorption” section of the Decision Memo, accessible in B-099 and on the Web at www.ita.doc.gov/import_admin/records/frn/, under the heading “(Applicable Country).”

Changes Since the Preliminary Results

Based on our analysis of comments received, we have made certain changes in the margin calculations. We have also corrected certain programming and clerical errors in our preliminary results, where applicable. Any alleged programming or clerical errors with which we do not agree are discussed in the relevant sections of the “Decision Memorandum,” accessible in B-099 and on the Web at www.ita.doc.gov/import_admin/records/frn/, under the heading “(Applicable Country).”

Final Results of Review

We determine that the following percentage weighted-average margins exist for the period (date) through (date):

Manufacturer/exporter | Margin (Percent)
(Company Name) | XX.XX
(Company Name) | XX.XX

The Department shall determine, and Customs shall assess, antidumping duties on all appropriate entries. In accordance with 19 CFR 351.212(b), we have calculated exporter/importer-specific assessment rates. With respect to both export price and constructed export price sales, we divided the total dumping margins for the reviewed sales by the total entered value of those reviewed sales for each importer. We will direct Customs to assess the resulting percentage margins against the entered Customs values for the subject merchandise on each of that importer's entries under the relevant order during the review period.

Cash Deposit Requirements

The following deposit requirements will be effective upon publication of this notice of final results of administrative review for all shipments of (product) from (country) entered, or withdrawn from warehouse, for consumption on or after the date of publication, as provided by section 751(a)(1) of the Act: (1) the cash deposit rates for the reviewed companies will be the rates shown above except that, for firms whose weighted-average margins are less than 0.5 percent and therefore de minimis, the Department shall require no deposit of estimated antidumping duties; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers or exporters will continue to be (rate). This rate is the “All Others” rate from the LTFV investigation.

These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective orders (APO) of their responsibility concerning the return or destruction of proprietary information disclosed under APO in accordance with 19 CFR 351.305 or conversion to judicial protective order is hereby requested. Failure to comply with the regulations and terms of an APO is a violation which is subject to sanction.

We are issuing and publishing this determination and notice in accordance with sections section 751(a)(1) and 771(i) of the Act.

(Name)

Assistant Secretary for Import Administration

(Date)

Appendix 2—Issues in Decision Memo (Sample)

Comments and Responses

1. Facts Available

2. Discounts, Rebates, and Price Adjustments

3. Circumstance-of-Sale Adjustments

A. Technical Services and Warranty Expenses

B. Credit

C. Indirect Selling Expenses

4. Level of Trade

5. Cost of Production and Constructed Value

A. Cost-Test Methodology

B. Research and Development

C. Profit for Constructed Value

D. Affiliated-Party Inputs

E. Abnormally High Profits

F. Credit and Inventory Costs

G. Other Issues

6. Further Manufacturing

7. Packing and Movement Expenses

8. Affiliated Parties

9. Sample Sales and Prototypes/Zero-Price Transactions

10. Export Price and Constructed Export Price

11. Programming and Clerical Errors

12. Duty Absorption

13. Reimbursement

14. Tooling Revenue

15. Cash Deposit Financing

16. Miscellaneous Issues

A. Ocean and Air Freight

B. Burden of Proof

C. HTS

D. Certification of Conformance of Past Practice

E. Pre-Existing Inventory

F. Inland Freight

G. Other Issues

Appendix 3—Sample Decision Memo

This will be available on IA's Web page.

(Case Number)

AR X/XX-X/XX

Public Document

MEMORANDUM TO: (Name)

Assistant Secretary for Import Administration

FROM: (Name)

Deputy Assistant Secretary for Import Administration

SUBJECT: Issues and Decision Memorandum for the Administrative Review of (product) from (country)—(date) through (date)

Summary

We have analyzed the comments and rebuttals of interested parties in the (date) administrative review of the antidumping duty order covering (product) from (country). As a result of our analysis, we have made changes, including corrections of certain inadvertent programming and clerical errors, in the margin calculations. We recommend that you approve the positions we have developed in the Discussion of the Issues section of this memorandum. Below is the complete list of the issues in this administrative review for which we received comments and rebuttals by parties:

1. Facts Available

2. Discounts, Rebates, and Price Adjustments

3. Circumstance-of-Sale Adjustments

A. Technical Services and Warranty Expenses

B. Credit

C. Indirect Selling Expenses

4. Level of Trade

5. Cost of Production and Constructed Value

A. Cost-Test Methodology

B. Research and Development

C. Profit for Constructed Value

D. Affiliated-Party Inputs

E. Abnormally High Profits

F. Credit and Inventory Costs

G. Other Issues

6. Further Manufacturing

7. Packing and Movement Expenses

8. Affiliated Parties

9. Sample Sales and Prototypes/Zero-Price Transactions

10. Export Price and Constructed Export Price

11. Programming and Clerical Errors

12. Duty Absorption

13. Reimbursement

14. Tooling Revenue

15. Cash Deposit Financing

16. Miscellaneous Issues

A. Ocean and Air Freight

B. Burden of Proof

C. HTS

D. Certification of Conformance to Past Practice

E. Pre-Existing Inventory

F. Inland Freight

G. Other Issues

Background

On (date), the Department of Commerce (the Department) published the preliminary results of administrative review of the antidumping duty order on (product) from (country). The merchandise covered by this order is (brief description). The period of review (POR) is (date) through (date). We invited parties to comment on our preliminary results of review. At the request of certain interested parties, we held a public hearing on (date).

Discussion of the Issues

1. Facts Available

Comment 1:

Department's Position:

2. Discounts, Rebates, and Price Adjustments

Comment 1:

Department's Position:

3. Circumstance-of-Sale Adjustments

Comment 1:

Department's Position:

* * * * *

Recommendation

Based on our analysis of the comments received, we recommend adopting all of the above positions and adjusting all related margin calculations accordingly. If these recommendations are accepted, we will publish the final results of review and the final weighted-average dumping margins for all reviewed firms in the Federal Register.

AGREE_

DISAGREE_

(Name)

Assistant Secretary for Import Administration

(Date)

[FR Doc. 00-1654 Filed 1-21-00; 8:45 am]

BILLING CODE 3510-DS-P